OVERSEAS PRIVATE INVESTMENT CORPORATION

October 20, 2005 Public Hearing

OPIC's Sunshine Act notice of its Public Hearing in Conjunction with each Board meeting was published in the Federal Register (Volume 70, Number 187, Page 56746) on September 28, 2005. No requests were received to provide testimony or submit written statements for the record; therefore, OPIC's public hearing in conjunction with OPIC's October 27, 2005 Board of Directors meeting scheduled for 2 p.m. on October 20, 2005 has been cancelled.

Contact Person for Information: Information on the hearing cancellation may be obtained from Connie M. Downs at (202) 336-8438, via facsimile at (202) 218-0136, or via e-mail at cdown@opic.gov.

Dated: September 1, 2005.
Connie M. Downs,
OPIC Corporate Secretary.

[FR Doc. 05-20805 Filed 10-13-05; 12:10 pm]

BILLING CODE 3210-01-M